DEPARTMENT OF THE TREASURY

Community Development Financial Institutions Fund

Funding Opportunity Title: Revised Notice of Guarantee Availability (NOGA) Inviting Qualified Issuer Applications and Guarantee Applications for the Community Development Financial Institutions (CDFI) Bond Guarantee Program.

Announcement Type: Announcement of opportunity to submit Qualified Issuer Applications and Guarantee Applications.

Catalog of Federal Domestic Assistance (CFDA) Number: 21.011.

DATES: Qualified Issuer Applications and Guarantee Applications may be submitted to the CDFI Fund starting on the date of publication of this Notice of Guarantee Availability (NOGA). In order to be considered for the issuance of a Guarantee in fiscal year (FY) 2018, Qualified Issuer and Guarantee Applications must be submitted by 11:59 p.m. EST on July 12, 2018. If applicable, CDFI Certification Applications must be received by the CDFI Fund by 11:59 p.m. EST on July 12, 2018. Under the Congressional authorization in the Consolidated Appropriations Act, 2018, the amount of FY 2018 Guarantee Authority available is up to $500 million. Bond Documents and Bond Loan documents must be executed, and Guarantees will be provided, in the order in which Guarantee Applications are approved or by such other criteria that the CDFI Fund may establish, in its sole discretion, and in any event by December 31, 2018.

Executive Summary: This revised NOGA is published in connection with the CDFI Bond Guarantee Program, administered by the Community Development Financial Institutions Fund (CDFI Fund), the U.S. Department of the Treasury (Treasury). Through this NOGA, the CDFI Fund announces the availability of up to $500 million of Guarantee Authority in FY 2018. On November 2, 2017, the Community Development Financial Institutions Fund (CDFI Fund) announced the opportunity for the submission of Qualified Issuer Applications and Guarantee Applications for the CDFI Bond Guarantee Program (82 FR 50944). On January 18, 2018, the CDFI Fund published a revised NOGA extending the deadline for the submission of Guarantee Applications under the CDFI Bond Guarantee Program (83 FR 2724).

This revised NOGA is re-opening the FY 2018 Application round of the CDFI Bond Guarantee Program with an application submission deadline of 11:59 p.m. EST on July 12, 2018 to provide interested parties with the opportunity to participate in the CDFI Bond Guarantee Program. The NOGA published on November 2, 2017, (82 FR 50944) explains application submission and evaluation requirements and processes. Parties interested in being approved for a Guarantee under the CDFI Bond Guarantee Program must submit Qualified Issuer Applications and Guarantee Applications for consideration in accordance with this NOGA.

Capitalized terms used in this NOGA and not defined elsewhere are defined in the CDFI Bond Guarantee Program regulations (12 CFR 1808.102) and the CDFI Program Regulations (12 CFR 1805.104).

All other information and requirements set forth in the NOGA published November 2, 2017, (82 FR 50944) as amended, shall remain effective, as published.

I. Guarantee Opportunity Description

A. Authority. The CDFI Bond Guarantee Program was authorized by the Small Business Jobs Act of 2010 (Pub. L. 111-240; 12 U.S.C. 4713a) (the Act). Section 1134 of the Act amended the Riegle Community Development and Regulatory Improvement Act of 1994 (12 U.S.C. 4701, et seq.) to provide authority to the Secretary of the Treasury (Secretary) to establish and administer the CDFI Bond Guarantee Program.

B. Application Deadlines. In order to be considered for the issuance of a Guarantee under FY 2018 program authority, Qualified Issuer and Guarantee Applications must be submitted by 11:59 p.m. EST on July 12, 2018. If applicable, CDFI Certification Applications must be received by the CDFI Fund by 11:59 p.m. EST on July 12, 2018.

II. Agency Contacts

A. General information on questions and CDFI Fund support. The CDFI Fund will respond to questions and provide support concerning this revised NOGA and Qualified Issuer and Guarantee Applications between the hours of 9:00 a.m. and 5:00 p.m. ET, starting with the date of the publication of this revised NOGA. The final date to submit questions is [28 days after the publication of the NOGA]. Applications and other information regarding the CDFI Fund and its programs may be obtained from the CDFI Fund's website at http://www.cdfifund.gov. The CDFI Fund will post on its website responses to questions of general applicability regarding the CDFI Bond Guarantee Program.

B. The CDFI Fund's contact information is as follows:

Contact Information
Type of question | Telephone number (not toll free) | Email addresses
CDFI Bond Guarantee Program | (202) 653-0421, Option 5 | bgp@cdfi.treas.gov.
CDFI Certification | (202) 653-0423 | ccme@cdfi.treas.gov.
Compliance Monitoring and Evaluation | (202) 653-0423 | ccme@cdfi.treas.gov.
Information Technology Support | (202) 653-0422 | AMIS@cdfi.treas.gov.

C. Communication with the CDFI Fund. The CDFI Fund will use the AMIS internet interface to communicate with applicants, Qualified Issuers, Program Administrators, Servicers, Certified CDFIs and Eligible CDFIs, using the contact information maintained in their respective AMIS accounts. Therefore, each such entity must maintain accurate contact information (including contact person and authorized representative, email addresses, fax numbers, phone numbers, and office addresses) in its respective AMIS account. For more information about AMIS, please see the AMIS Landing Page at https://amis.cdfifund.gov.

Authority: Pub. L. 111-240; 12 U.S.C. 4701, et seq.; 12 CFR part 1808; 12 CFR part 1805; 12 CFR part 1815.

Mary Ann Donovan,
Director, Community Development Financial Institutions Fund.

[FR Doc. 2018-12605 Filed 6-11-18; 8:45 am]

BILLING CODE 4810-70-P